DEPARTMENT OF TRANSPORTATION

Federal Aviation Administration

NextGen Advisory Committee: Solicitation of Nominations for Appointment

AGENCY: Federal Aviation Administration (FAA), Department of Transportation (DOT).

ACTION: Solicitation of nominations for appointment to the NextGen Advisory Committee (NAC).

SUMMARY: This notice announces a solicitation for nominations for membership on the NextGen Advisory Committee (NAC).

DATES: Nominations must be received no later than 6:00 p.m. Eastern Time on September 19, 2022. Nominations received after the due date may be retained for evaluation for future NAC vacancies after all other nominations received by the due date have been evaluated and considered.

ADDRESSES: Nominations can be submitted electronically (by email) to 9-FAA-NexGen-Advisory-Committee@faa.gov. The subject line should state “NAC Nomination.” The body of the email must contain content or attachments that address all requirements as specified in the below “Materials to Submit” section. Incomplete/partial submittals, as well as those that exceed the specified document length, may not be considered for evaluation. An email confirmation from the FAA will be sent upon receipt of all complete nominations that meet the criteria in the “Materials to Submit” section. Anyone wishing to submit an application by paper may do so by contacting Kimberly Noonan at Kimberly.Noonan@faa.gov or calling 202-267-3760. The FAA will notify those appointed by the Secretary of Transportation to serve on the NAC in writing.

FOR FURTHER INFORMATION CONTACT: Kimberly Noonan, NAC Coordinator, U.S. Department of Transportation, at Kimberly.Noonan@faa.gov or 202-267-3760. Additional information on the NAC, including the current roster, charter, tasks, and previous meeting minutes, may be found at: https://www.faa.gov/about/office_org/headquarters_offices/ang/nac.

SUPPLEMENTAL INFORMATION:

I. Background

The Secretary of Transportation established the NAC under agency authority in accordance with the provisions of the Federal Advisory Committee Act (FACA), as amended, Public Law 92-463, 5 U.S.C. app. 2, to provide independent advice and recommendations to the FAA, and to respond to specific tasks received directly from the FAA. The advice, recommendations, and tasks related to concepts, requirements, operational capabilities, the associated use of technology, and related considerations to operations that affect the future of the Air Traffic Management System and the integration of new technologies. In addition, the NAC recommends consensus-driven advice for the FAA's consideration relating to Air Traffic Management System modernization, which the FAA may adopt.

This notice seeks to fill current and future vacancies on the NAC and does not affect the status of NAC members whose terms have not expired.

II. Description of Duties

The objective of the NAC is to advise the FAA, using consensus-based meeting methodologies, on (1) investment priorities, (2) NextGen priorities and performance analyses report, (3) trajectory-based operations deployment and planning consistent with the FAA's NextGen Vision, and (4) ad hoc tasks received directly from the FAA. The NAC will act solely in an advisory capacity and will not exercise program management responsibilities. Decisions directly affecting the implementation of transportation policy will remain with the FAA Administrator and the Secretary of Transportation.

III. Membership

The NAC is comprised of members appointed by the Secretary of Transportation upon recommendation by the FAA Administrator. The membership must be equitably balanced in terms of points of view represented and functions performed. The stakeholder groups represented on the NAC include the following:

a. Air Traffic Management (Automation and Infrastructure)

b. Aircraft Manufacturers

c. Airports

d. Avionics Manufacturers

e. Department of Defense

f. Environmental Interests

g. International Entities

h. Labor

i. NASA

j. Operators (General Aviation, Air Carriers, Business Aviation)

All NAC members serve at the request of the Secretary. To the extent practicable and in accordance with the Executive Order on Advancing Racial Equity and Support for Underserved Communities through the Federal Government and the Executive Order on Diversity, Equity, Inclusion, and Accessibility, the membership of the NAC shall include persons of diverse backgrounds in race, ethnicity, religion, sexual orientation, and gender. The NAC will have no more than 30 members. Other membership terms include:

a. An appointment of up to two years.

b. Service without charge and without government compensation.

c. Ability to attend all NAC meetings (estimated three meetings per year).

Qualifications: Candidates must currently serve as a senior executive and corporate officer in an aviation organization with equities in air traffic management and aircraft equipment modernization to provide advice on the integration and operationalization of NextGen programs and associate technologies. Candidates must have the ability to make corporate decisions in the committee and commit resources on behalf of their organizations. Candidates must have appropriate expertise to include, but are not limited to, flight operations; air traffic management automation and infrastructure; aircraft and avionics manufacturing; airport infrastructure/operations; government; and aviation labor safety. Candidates should have the flexibility and network to reach out to their respective aviation community sector counterparts as needed to respond to FAA requests for advice. Candidates must be in good public standing and are expected to be present at all meetings to ensure the NAC deliberations include a balance of points of view.

Materials to Submit: Candidates are required to submit, in full, the following materials to be considered for NAC membership. Failure to submit the required information may disqualify a candidate from the review process:

a. A biography of the nominee, including professional and academic credentials.

b. A resume or curriculum vitae, which must include relevant job experience, qualifications, former service on a(n) Federal Advisory Committee(s) and/or Aviation Rulemaking Committee(s), and contact information (email, telephone, and mailing address).

c. A one-page statement describing how the candidate will add value to the NAC, taking into consideration current membership requirements and the candidate's unique background, experience, and perspective that will advance the conversation.

Current NAC members who wish to be reappointed to the committee must also respond to this solicitation notice.

Issued in Washington, DC.
Kimberly Noonan,
Manager, Stakeholder and Collaboration Division (A), NextGen Office of Collaboration and Messaging, ANG-M, Office of the Assistant Administrator for NextGen, Federal Aviation Administration.

[FR Doc. 2022-17680 Filed 8-16-22; 8:45 am]

BILLING CODE 4910-13-P